DEPARTMENT OF HEALTH AND HUMAN SERVICES

Centers for Disease Control and Prevention

[Program Announcement 03047]

Strengthening Blood Transfusion Services and Blood Safety in Tanzania; Notice of Availability of Funds

A. Authority and Catalog of Federal Domestic Assistance Number

This program is authorized under sections 301, 307, and 317 of the Public Health Service Act, (42 U.S.C. 241, 2421, and 247b), as amended. The Catalog of Federal Domestic Assistance number is 93.283.

B. Purpose

The Centers for Disease Control and Prevention (CDC) announces the availability of fiscal year (FY) 2003 funds for a grant program to design an appropriate approach for strengthening blood transfusion services and blood safety in Tanzania.

The purpose of the program is to assess key needs and resources and to make recommendations for strengthening blood supply and transfusion services in Tanzania. This program is being performed specifically in Tanzania according to U.S. Congressional mandate for Department of State, United States Agency for International Development (USAID) implementation in response to the 1998 bombing of the U.S. embassy in Tanzania.

On August 7, 1998, terrorists carried out nearly simultaneous bombings of the U.S. Embassies, which were located in a residential area of Dar Es Salaam, Tanzania, and in downtown Nairobi, Kenya. Taken together, these bombings had their intended terrorist and disastrous effect: the occurrence of a large number of premature deaths, disabling injuries, and post-traumatic psycho-social stress among the victims directly affected and among their families and co-workers. In addition to an enormous adverse impact on innocent people, the bombings caused substantial damage to property and also revealed widespread weaknesses in the disaster preparedness, management, and response capabilities, including blood transfusion services.

In October 1998, at the request of President Clinton and Dr. Donna Shalala, then Secretary of the U.S. Department of Health and Human Services (HHS), Surgeon General Dr. David Satcher and a team of experts traveled to Kenya and Tanzania. Dr. Satcher and his team visited the bombing sites, bombing victims, and Tanzanian Government institutions and non-governmental organizations responsible for disaster management and Emergency Medical Services. The Surgeon General reported to the Secretary of DHHS that there was a need for two to three years of focused activities in which HHS agencies could collaborate with USAID and other stakeholders to assist Tanzanians.

This project for designing an appropriate approach for strengthening blood transfusion services in Tanzania is part of a larger CDC program for strengthening emergency medical preparedness in the nation of Tanzania. Measurable outcomes of this project will be in alignment with that program.

C. Eligible Applicants

Assistance will be provided to a public, private, for-profit, or non-profit organization (including faith-based organizations) that has at least one major operation headquartered in sub-Saharan Africa. Eligible organizations will have significant experience in building, operating, and transferring blood services in sub-Saharan Africa.

Competition is being limited to organizations with an established presence in sub-Saharan Africa due to an acute urgency to begin the project in response to recent increases in terrorist activity in the region.

Note: Title 2 of the United States Code section 1611 states that an organization described in section 501c(4) of the Internal Revenue Code that engages in lobbying activities is not eligible to receive Federal funds constituting an award, grant or loan.

D. Funding

Availability of Funds

Approximately $15,000 is available in FY 2003 to fund one award. It is expected that the award will begin on or about September 15, 2003 and will be made for a 12-month budget period within a project period of up to one year. Funding estimates may change.

Use of Funds

1. Funds may be spent for reasonable program purposes, including personnel, travel, supplies, and services. Equipment may be purchased if deemed necessary to accomplish program objectives; however, prior approval by CDC officials must be requested in writing.

2. All requests for funds contained in the budget, shall be stated in U.S. dollars. Once an award is made, CDC will not compensate foreign grantees for currency exchange fluctuations through the issuance of supplemental awards.

3. The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

4. The applicant may contract with other organizations under this program; however the applicant must perform a substantial portion of the activities (including program management and operations, and delivery of prevention services for which funds are required.)

5. The applicant must obtain annual audit of these CDC funds (program-specific audit) by a U.S.-based audit firm with international branches and current licensure/authority in-country, and in accordance with International Accounting Standards or equivalent standard(s) approved in writing by CDC.

6. A fiscal Recipient Capability Assessment may be required, prior to or post award, in order to review the applicant's business management and fiscal capabilities regarding the handling of U.S. Federal funds.

Recipient Financial Participation: Matching funds are not required for this program.

E. Program Requirements

In conducting activities to achieve the purpose of this program, the recipient will be responsible for the following activities:

a. Review current literature and documentation related to blood management in Tanzania.

b. Develop and organize an assessment plan.

c. Perform an in-country assessment of blood management in Dar es Salaam, Tanzania, for a duration of not less than one week, and not more than two weeks.

d. Review and disseminate the assessment findings to Tanzanian health officials and CDC.

F. Content

Letter of Intent (LOI)

A LOI is not required for this program.

Applications

The Program Announcement title and number must appear in the application. Use the information in the Program Requirements, Other Requirements, and Evaluation Criteria sections to develop the application content. Your application will be evaluated on the criteria listed, so it is important to follow them in laying out your program plan. The narrative should be no more than twenty pages, double-spaced, printed on one side, with one-inch margins, and unreduced 12-point font.

The narrative should consist of, at minimum, a plan, objectives, methods, evaluation, and budget. Provide a detailed budget and justification based on the funds available.

G. Submission and Deadline

Application Forms

Submit the signed original and two copies of PHS 5161-1 (OMB Number 1920-0428). Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time July 7, 2003. Submit the application to: Technical Information Management-PA#03047, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the grant. Measures of effectiveness must relate to the performance goals stated in the purpose section of this announcement. Measures must be objective and quantitative and must measure the intended outcome. These measures of effectiveness must be submitted with the application and will be an element of evaluation.

An independent review group appointed by CDC will evaluate each application against the following criteria:

1. Scientific or Technical Approach (30 points)

a. Provide evidence of demonstrated scientific expertise involving programs for the promotion of public health in sub-Saharan Africa.

b. Provide evidence of demonstrated technical expertise in developing blood transfusion and blood safety systems to include methods that are culturally and technologically appropriate to sub-Saharan Africa.

2. Methodology and Approach (20 points)

a. Provide evidence of demonstrated expertise in methodology for evaluation and development of national blood safety and management systems.

b. Demonstrate experience in providing staff training, strategic planning, test kits, testing services, and operations planning in sub-Saharan Africa.

c. Provide evidence of demonstrated successful experience involving blood management services in developing nations of sub-Saharan Africa.

3. Staff Experience and Capability (20 points)

Provide evidence of demonstrated technical expertise and professional experience of staff in the evaluation, organization, and management of blood transfusion services in an African nation. Provide evidence that management staff has ample experience in blood banking in Africa. Provide assurance that the team will be headed by an MD from sub-Saharan Africa and that the staff includes physicians with expertise in hematology, blood transfusion, and infectious diseases.

4. Cultural Knowledge Requirements (20 points)

Provide evidence of demonstrated successful experience as a consultant in sub-Saharan African countries.

5. Understanding of the Project (10 points)

a. Demonstrated clarity, feasibility, and practicality of the proposed plan to accomplish this project.

b. Demonstrated recognition of the potential difficulties in performance and appropriateness and soundness of proposed solutions.

6. Budget Justification (not scored)

The extent to which the budget is clearly explained, adequately justified, and is reasonable and consistent with the stated objectives and planned activities.

I. Other Requirements

Technical Reporting Requirements

Provide CDC with original plus two copies of a final financial report and a final report of findings and recommendations. These reports are due no more than 90 days after the end of the project period.

Send all reports to the Grants Management Specialist identified in the “Where to Obtain Additional Information” section of this announcement.

Additional Requirements

The following additional requirements are applicable to this program. For a complete description of each, see Attachment I of the program announcement, as posted on the CDC Web site.

AR-12—Lobbying Restrictions

AR-14—Accounting System Requirements

AR-15—Proof of Non-Profit Status

Executive Order 12372 does not apply to this program.

J. Where To Obtain Additional Information

This and other CDC announcements, the necessary applications, and associated forms can be found on the CDC Web site, Internet address: http://www.cdc.gov.

Click on “Funding” then “Grants and Cooperative Agreements”.

For general questions about this announcement, contact: Technical Information Management, CDC Procurement and Grants Office, 2920 Brandywine Road, Atlanta, GA 30341-4146, Telephone: 770-488-2700.

For business management and budget assistance, contact: Angelia Hill, Grants Management Specialist, Procurement and Grants Office, Centers for Disease Control and Prevention, 2920 Brandywine Road, Atlanta, GA 30341-4146, Telephone: 770-488-2785, E-mail address: AHill@cdc.gov.

For program technical assistance, contact: Mark Keim, MD, International Emergency and Refugee Health Branch, National Center for Environmental Health, Centers for Disease Control and Prevention, Mail Stop F-48, 4770 Buford Highway, Atlanta, GA 30341, Telephone: 770-488-4597, E-mail address: MKeim@cdc.gov.

Dated: April 30, 2003.
Sandra R. Manning,
Director, Procurement and Grants Office, Centers for Disease Control and Prevention.

[FR Doc. 03-11141 Filed 5-5-03; 8:45 am]

BILLING CODE 4163-18-P